DEPARTMENT OF HEALTH AND HUMAN SERVICES

Health Resources and Services Administration

Solicitation of Nominations for Membership To Serve on the Advisory Committee on Organ Transplantation

AGENCY: Health Resources and Services Administration (HRSA), Department of Health and Human Services (HHS).

ACTION: Request for nominations.

SUMMARY: HRSA is seeking nominations of qualified candidates to be considered for appointment as members of the Advisory Committee on Organ Transplantation (ACOT or Committee). ACOT provides advice and recommendations to the Secretary of HHS (Secretary) on matters pertaining to organ donation, procurement, allocation, and transplantation; maximizing the number of deceased donor organs available for transplantation; supporting the safety of living organ donation proposed policies of the Organ Procurement and Transplantation Network (OPTN) and OPTN operations; and the latest advances in the science of transplantation.

Authority: In accordance with 42 CFR 121.12, the Secretary established ACOT pursuant to 42 U.S.C. 217a. The Committee is governed by the Federal Advisory Committee Act (FACA) (5 U.S.C. Appendix 2), which sets forth standards for the formation and use of advisory committees.

DATES: Written nominations for membership on the ACOT will be received on a continuous basis.

ADDRESSES: Nomination packages must be submitted to the Executive Secretary, ACOT, Healthcare Systems Bureau, HRSA, Room 08W67, 5600 Fishers Lane, Rockville, Maryland 20857, or via email to: ACOTHRSA@hrsa.gov.

FOR FURTHER INFORMATION CONTACT: Shelley Grant, Executive Secretary, ACOT, at (301) 443-8036 or email sgrant@hrsa.gov. A copy of the ACOT charter and list of current members may be obtained by accessing the ACOT website at https://www.organdonor.gov/about-dot/acot.html.

SUPPLEMENTARY INFORMATION: In accordance with the Amended Final Rule of the OPTN (42 CFR part 121), the ACOT was established pursuant to 42 U.S.C. 217a and, in accordance with Public Law 92-463, was first chartered on September 1, 2000. The ACOT meets up to three times during the fiscal year.

Nominations: HRSA is requesting nominations for voting members to serve as Special Government Employees (SGEs) on ACOT. The Secretary appoints ACOT members with the expertise needed to fulfill the duties of the Advisory Committee. Nominees sought are individuals knowledgeable in such fields as deceased and living organ donation, health care public policy, transplantation medicine and surgery, critical care medicine, and other medical specialties involved in the identification and referral of donors, non-physician transplant professions, nursing, epidemiology, immunology, law and bioethics, behavioral sciences, economics, and statistics, as well as representatives of transplant candidates, transplant recipients, living organ donors, and family members of deceased and living organ donors. Interested applicants may self-nominate or be nominated by another individual or organization.

Individuals selected for appointment to the Committee will be invited to serve for a term up to 4 years. Members appointed as SGEs receive a stipend and reimbursement for per diem and travel expenses incurred for attending ACOT meetings and/or conducting other business on behalf of the ACOT, as authorized by 5 U.S.C. 5703 of FACA for persons employed intermittently in government service.

The following information must be included in the package of materials submitted for each individual being nominated for consideration: (1) A letter of nomination stating the name, affiliation, and contact information for the nominee, the basis for the nomination (i.e., what specific attributes, perspectives, and/or skills does the individual possess that would benefit the workings of ACOT), and the nominee's field(s) of expertise; (2) a biographical sketch of the nominee; (3) the name, address, daytime telephone number, and email address at which the nominator can be contacted; and (4) a current copy of the nominee's curriculum vitae. Nomination packages may be submitted directly by the individual being nominated or by the person/organization recommending the candidate.

HHS endeavors to ensure that the membership of ACOT is fairly balanced in terms of points of view represented and that individuals from a broad representation of geographic areas, gender, and ethnic and minority groups, as well as individuals with disabilities, are considered for membership. Appointments shall be made without discrimination on the basis of age, ethnicity, gender, sexual orientation, or cultural, religious, or socioeconomic status.

Individuals who are selected to be considered for appointment will be required to provide detailed information regarding their financial holdings, consultancies, and research grants or contracts. Disclosure of this information is required for HRSA ethics officials to determine whether there is a conflict between the SGE's public duties as a member of ACOT and their private interests, including an appearance of a loss of impartiality as defined by federal laws and regulations, and to identify any required remedial action needed to address the potential conflict.

Maria G. Button,
Director, Executive Secretariat.

[FR Doc. 2021-11209 Filed 5-26-21; 8:45 am]

BILLING CODE 4165-15-P